OFFICE OF NATIONAL DRUG CONTROL POLICY

Notice of Meeting of Drug Free Communities Advisory Commission

SUMMARY: In accordance with the Drug-Free Communities Act, a meeting of the Drug Free Communities Advisory Commission will be held on March 7-8, 2000 in the Board Room of the Vern Riffe Center, located at 77 South High Street, 31st Floor, Columbus, Ohio. The meeting will commence at 1:00 p.m. on March 7th and adjourn for the evening at 4:30 p.m. The meeting will resume at 8:30 a.m. on March 8th and end at 12:15 p.m. The agenda will include: a panel discussion with Ohio Drug-Free Communities Grantees; remarks by ONDCP Director Barry R. McCaffrey, the status of juvenile justice and delinquency prevention; and a report by the ONDCP Administrator of the Drug Free Communities Support Program. There will be an opportunity for public comment from 11:30 a.m. until 12:00 noon on Wednesday March 8, 2000.

FOR FURTHER INFORMATION CONTACT: Please direct any questions to Linda V. Priebe, Attorney-Advisor, (202) 395-6622, Office of National Drug Control Policy, Executive Office of the President, Washington, D.C. 20503.

Edward H. Jurith,
General Counsel.

[FR Doc. 00-4403 Filed 2-24-00; 8:45 am]

BILLING CODE 3180-02-P